DEPARTMENT OF THE INTERIOR

Bureau of Land Management

[MTM 21943]

Public Land Order No. 7696; Extension of Public Land Order No. 6669; Montana

AGENCY: Bureau of Land Management, Interior.

ACTION: Public Land Order.

SUMMARY: This order extends the withdrawal created by Public Land Order No. 6669 for an additional 20-year period. This extension is necessary to continue protection of the United States Forest Service's Lincoln Gulch Historic Site in Lewis and Clark County, Montana which would otherwise expire on March 23, 2008.

DATES: Effective Date: March 24, 2008.

FOR FURTHER INFORMATION CONTACT: Scott Bixler, U.S. Forest Service, Region 1, P.O. Box 7669, Missoula, Montana 59807, 406-329-3655, or Sandra Ward, Bureau of Land Management, Montana State Office, 5001 Southgate Drive, Billings, Montana 59101-4669, (406) 896-5052.

SUPPLEMENTARY INFORMATION: The withdrawal extended by this order will expire on March 23, 2028, unless, as a result of a review conducted prior to the expiration date pursuant to section 204(f) of the Federal Land Policy and Management Act of 1976, 43 U.S.C. 1714(f) (2000), the Secretary determines that the withdrawal shall be further extended.

Order

By virtue of the authority vested in the Secretary of the Interior by section 204 of the Federal Land Policy and Management Act of 1976, 43 U.S.C. 1714 (2006), it is ordered as follows:

Public Land Order No. 6669 (53 FR 9628 (1988)), which withdrew 90 acres of National Forest System land from the United States mining laws to protect the Lincoln Gulch Historic Site, is hereby extended for an additional 20-year period until March 23, 2028.

Authority: 43 CFR 2310.4.

Dated: March 13, 2008.
C. Stephen Allred,
Assistant Secretary—Land and Minerals Management.

[FR Doc. E8-6013 Filed 3-24-08; 8:45 am]

BILLING CODE 4310-11-P